DEPARTMENT OF COMMERCE

Foreign-Trade Zones Board

[Docket 23-2010]

Foreign-Trade Zone 157—Casper, Wyoming, Application for Expansion

An application has been submitted to the Foreign-Trade Zones Board (the Board) by the Casper/Natrona County International Airport, grantee of FTZ 157, requesting authority to expand FTZ 157 to include a site in Casper, Wyoming. The application was submitted pursuant to the provisions of the Foreign-Trade Zones Act, as amended (19 U.S.C. 81a-81u), and the regulations of the Board (15 CFR part 400). It was formally filed on March 29, 2010.

FTZ 157 was approved on January 19, 1989 (Board Order 426, 54 F.R. 5532, 02/03/1989). The zone currently consists of one site (492 acres): Site 1 (492 acres) is located at the Casper/Natrona County International Airport, 8500 Airport Parkway, Casper.

The applicant is requesting authority to expand the zone to include a site in Casper (Natrona County): Proposed Site 2 (984 acres) Casper Logistics Hub, located adjacent to and northeast of the airport at 6 Mile Road and Morgan Street, Casper. The proposed site includes parcels owned by the applicant, Bishop Industrial Ranch, LLC and the Casper Logistics Hub. The site will be used to provide logistics, warehousing and distribution services to area businesses. No specific manufacturing authority is being requested at this time. Such requests would be made to the Board on a case-by-case basis.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is June 4, 2010. Rebuttal comments in response to material submitted during the foregoing period may be submitted during the subsequent 15-day period to June 21, 2010.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Christopher Kemp at Christopher.Kemp@trade.gov/ftz or (202) 482-0862.

Dated: March 29, 2010.
Andrew McGilvray,
Executive Secretary.

[FR Doc. 2010-7664 Filed 4-2-10; 8:45 am]

BILLING CODE 3510-DS-S